FEDERAL COMMUNICATIONS COMMISSION

47 CFR Part 64

[CG Docket Nos. 13-24 and 03-123; FCC 13-118]

Misuse of Internet Protocol (IP) Captioned Telephone Service; Correction

AGENCY: Federal Communications Commission.

ACTION: Technical amendments.

SUMMARY: The Federal Communications Commission (Commission) published in the Federal Register on August 28, 2014, 79 FR 51450, amending its rules for Internet Protocol Captioned Telephone Service (IP CTS). That document inadvertently removed § 64.604(c)(11)(iv) of the Commission's rules. This document corrects the final regulations by adding back that section.

DATES: Effective September 9, 2014.

FOR FURTHER INFORMATION CONTACT: Eliot Greenwald, Disability Rights Office, Consumer and Governmental Affairs Bureau, at (202) 418-2235 (voice), or email Eliot.Greenwald@fcc.gov.

SUPPLEMENTARY INFORMATION: The Commission published a document in the Federal Register on August 30, 2013, 78 FR 53684, adding § 64.604(c)(11)(iv) of its rules for IP CTS. In FR Doc. 2014-20433, published in the Federal Register on August 28, 2014, 79 FR 51450, § 64.604(c)(11)(iv) was inadvertently removed. This correction reverses that removal and adds § 64.604(c)(11)(iv) as published on August 30, 2013, 78 FR 53684.

List of Subjects in 47 CFR Part 64

Individuals with disabilities, Telecommunications.

Federal Communications Commission.
Marlene H. Dortch,
Secretary.

Accordingly, 47 CFR part 64 is corrected by making the following technical amendment:

PART 64—MISCELLANEOUS RULES RELATING TO COMMON CARRIERS

1. The authority citation for part 64 continues to read as follows:

Authority: 47 U.S.C. 154, 254(k); 403(b)(2)(B), (c), Pub. L. 104-104, 110 Stat. 56. Interpret or apply 47 U.S.C. 201, 218, 222, 225, 226, 227, 228, 254(k), 616, 620, and the Middle Class Tax Relief and Job Creation Act of 2012, Pub. L. 112-96, unless otherwise noted.

2. Amend § 64.604 by adding paragraph (c)(11)(iv) to read as follows:

§ 64.604 Mandatory minimum standards.

* * * * *

(c) * * *

(11) * * *

(iv) IP CTS providers shall maintain, with each consumer's registration records, records describing any IP CTS equipment provided, directly or indirectly, to such consumer, stating the amount paid for such equipment, and stating whether the label required by paragraph (c)(11)(iii) of this section was affixed to such equipment prior to its provision to the consumer. For consumers to whom IP CTS equipment was provided directly or indirectly prior to the effective date of this paragraph (c)(11), such records shall state whether and when the label required by paragraph (c)(11)(iii) of this section was distributed to such consumer. Such records shall be maintained for a minimum period of five years after the consumer ceases to obtain service from the provider.

* * * * *

[FR Doc. 2014-21053 Filed 9-8-14; 8:45 am]

BILLING CODE 6712-01-P